DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with April anniversary dates. In accordance with Commerce's regulations, we are initiating those administrative reviews.

DATES: Applicable June 6, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with April anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than April 30, 2019.

| Period to be reviewed
Antidumping Duty Proceedings
REPUBLIC OF KOREA: Phosphor Copper A-580-885 | 10/14/16-03/31/18
Bongsang Co., Ltd.
THE PEOPLE'S REPUBLIC OF CHINA: 1,1,1,2-Tetrafluoroethane (R-134A) A-570-044 | 10/7/16-3/31/18
Zhejiang Sanmei Chemical Ind. Co., Ltd. (also known as Zhejiang Sanmei Chemical Industry Co., Ltd).
T.T. International Co., Ltd.
THE PEOPLE'S REPUBLIC OF CHINA: Certain Activated Carbon A-570-904 | 4/1/17-3/31/18
Acrowell International Logistics Ltd.
AmeriAsia Advanced Activated Carbon Products Co., Ltd.
AM Global Shipping Lines Co, Ltd.
Anhui Handfull International Trading (Group) Co., Ltd.
Anhui Hengyuan Trade Co. Ltd.
Anyang Sino-Shon International Trading Co., Ltd.
Apex Manufacturing Co. Ltd.
Apex Maritime (Tianjin) Co., Ltd.
Baoding Activated Carbon Factory.
Beijing Broad Activated Carbon Co., Ltd.
Beijing Embrace Technology Co., Ltd.
Beijing Haijian Jiechang Environmental Protection Chemicals.
Beijing Hibridge Trading Co., Ltd.
Beijing Kang Jie Kong International Cargo Agent Co., Ltd.
Beijing Pacific Activated Carbon Products Co., Ltd.
Bengbu Modern Environmental Co., Ltd.
Bengbu Jiutong Trade Co., Ltd.
Bengbu First Commercial & Trading Co., Ltd.
Bravo Specialty Chemicals Co., Ltd.
Brilliant Globe Logistics Inc.
Brilliant Logistics Group Inc.
Carbon Activated Tianjin Co., Ltd.
Changji Hongke Activated Carbon Co., Ltd.
Charter Link Logistics Limited.
Chengde Jiayu Activated Carbon Factory.
China Combi Works Oy Ltd.
China International Freight Co., Ltd.
China National Building Materials and Equipment Import and Export Corp.
China National Nuclear General Company Ningxia Activated Carbon Factory.
China Nuclear Ningxia Activated Carbon Plant.
China SDIC International Trade Co., Ltd.
Chongqing Feiyang Active Carbon Manufacture Co., Ltd.
Da Neng Zheng Da Activated Carbon Co., Ltd.
Datong Carbon Corporation.
Datong Changtai Activated Carbon Co., Ltd.
Datong City Zuoyun County Activated Carbon Co., Ltd.
Datong Fenghua Activated Carbon.
Datong Forward Activated Carbon Co., Ltd.
Datong Fuping Activated Carbon Co. Ltd.
Datong Guanghua Activated Co., Ltd.
Datong Hongtai Activated Carbon Co., Ltd.
Datong Huanqing Activated Carbon Co., Ltd.
Datong Huaxin Activated Carbon.
Datong Huibao Active Carbon Co., Ltd.
Datong Huiyuan Cooperative Activated Carbon Plant.
Datong Juqiang Activated Carbon Co., Ltd.
Datong Kaneng Carbon Co. Ltd.
Datong Locomotive Coal & Chemicals Co., Ltd.
Datong Municipal Yunguang Activated Carbon Co., Ltd.
Datong Tianzhao Activated Carbon Co., Ltd.
DaTong Tri-Star & Power Carbon Plant.
Datong Weidu Activated Carbon Co., Ltd.
Datong Xuanyang Activated Carbon Co., Ltd.
Datong Zuoyun Biyun Activated Carbon Co., Ltd.
Datong Zuoyun Fu Ping Activated Carbon Co., Ltd.
De Well Container Shipping Corp.
Derun Charcoal Carbon Co., Ltd.
Dezhou Jiayu Activated Carbon Factory.
DGX (H.K) Limited.
Dongguan Baofu Activated Carbon.
Dongguan SYS Hitek Co., Ltd.
Dushanzi Chemical Factory.
Endurance Cargo Management Co., Ltd.
Envitek (China) Ltd.
Excel Shipping Co., Ltd.
Fu Yuan Activated Carbon Co., Ltd.
Fujian Active Carbon Industrial Co., Ltd.
Fujian Jianyang Carbon Plant.
Fujian Nanping Yuanli Activated Carbon Co., Ltd.
Fujian Xinsen Carbon Co., Ltd.
Fujian Yuanli Active Carbon Co., Ltd.
Fujian Yuanli Active Carbon Industrial Co., Ltd.
Fujian Zhixing Activated Carbon Co., Ltd.
Fuzhou Taking Chemical.
Fuzhou Yihuan Carbon Co., Ltd.
Fuzhou Yuemengfeng Trade Co., Ltd.
Great Bright Industrial.
Gongyi City Beishan Kou Water Purification Materials Factory.
Guangdong Hanyan Activated Carbon Manufacturing Co., Ltd.
Guangzhou Four E'S Scientific Co., Ltd.
Hangzhou Hengxing Activated Carbon.
Hangzhou Hengxing Activated Carbon Co., Ltd.
Hangzhou Linan Tianbo Material (HSLATB).
Hangzhou Nature Technology.
Hangzhou Waterland Environmental Technologies Co., Ltd.
Hebei Foreign Trade and Advertising Corporation.
Hebei Luna Trading Co., Ltd.
Hebei Shenglun Import & Export Group Company.
Hegongye Ninxia Activated Carbon Factory.
Heilongjiang Provincial Hechang Import & Export Co., Ltd.
Henan Yemei Products Co., Ltd.
Hongke Activated Carbon Co., Ltd.
Honour Lane Shipping Ltd.
Huaibei Environment Protection Material Plant.
Huairen Huanyu Purification Material Co., Ltd.
Huairen Jinbei Chemical Co., Ltd.
Huaiyushan Activated Carbon Group.
Huatai Activated Carbon.
Huzhou Zhonglin Activated Carbon.
Inner Mongolia Taixi Coal Chemical Industry Limited Company.
Itigi Corp. Ltd.
J&D Activated Carbon Filter Co. Ltd.
Jacobi Carbons AB.
Jacobi Carbons Industries Tianjin.
Jiangle County Xinhua Activated Carbon Co., Ltd.
Jiangsu Kejing Carbon Fiber Co., Ltd.
Jiangsu Taixing Yixin Activated Carbon Technology Co., Ltd.
Jiangxi Hanson Import Export Co.
Jiangxi Huaiyushan Activated Carbon.
Jiangxi Huaiyushan Activated Carbon Group Co.
Jiangxi Huaiyushan Suntar Active Carbon Co., Ltd.
Jiangxi Jinma Carbon.
Jiangxi Yuanli Huaiyushan Active Carbon Co., Ltd.
Jianou Zhixing Activated Carbon.
Jiaocheng Xinxin Purification Material Co., Ltd.
Jilin Bright Future Chemicals Company, Ltd.
Jilin Province Bright Future Industry and Commerce Co., Ltd.
Jing Mao (Dongguan) Activated Carbon Co., Ltd.
Kaihua Xingda Chemical Co., Ltd.
Kemflo (Nanjing) Environmental Tech.
Keyun Shipping (Tianjin) Agency Co., Ltd.
Kunshan Actview Carbon Technology Co., Ltd.
King Freight International Corp.
Langfang Winfield Filtration Co.
Link Shipping Limited.
Longyan Wanan Activated Carbon.
M Chemical Company, Inc.
Meadwestvaco (China) Holding Co., Ltd.
Mindong Lianyi Group.
Muk Chi Trade Co., Ltd.
Nanjing Mulinsen Charcoal.
Nanping Yuanli Active Carbon Co.
Nantong Ameriasia Advanced Activated Carbon Product Co., Ltd.
Ningxia Baiyun Carbon Co., Ltd.
Ningxia Baota Activated Carbon Co., Ltd.
Ningxia Baota Active Carbon Plant.
Ningxia Guanghua A/C Co., Ltd.
Ningxia Blue-White-Black Activated Carbon (BWB).
Ningxia Fengyuan Activated Carbon Co., Ltd.
Ningxia Guanghua Activated Carbon Co., Ltd.
Ningxia Guanghua Chemical Activated Carbon Co., Ltd.
Ningxia Guanghua Cherishmet Activated Carbon Co., Ltd.
Ningxia Haoqing Activated Carbon Co., Ltd.
Ningxia Henghui Activated Carbon.
Ningxia Honghua Carbon Industrial Corporation.
Ningxia Huahui Activated Carbon Co., Ltd.
Ningxia Huinong Xingsheng Activated Carbon Co., Ltd.
Ningxia Jirui Activated Carbon.
Ningxia Lingzhou Foreign Trade Co., Ltd.
Ningxia Luyuangheng Activated Carbon Co., Ltd.
Ningxia Mineral & Chemical Limited.
Ningxia Pingluo County Yaofu Activated Carbon Plant.
Ningxia Pingluo Xuanzhong Activated Carbon Co., Ltd.
Ningxia Pingluo Yaofu Activated Carbon Factory.
Ningxia Taixi Activated Carbon.
Ningxia Tianfu Activated Carbon Co., Ltd.
Ningxia Tongfu Coking Co, Ltd.
Ningxia Weining Active Carbon Co., Ltd.
Ningxia Xingsheng Coal and Active Carbon Co., Ltd.
Ningxia Xingsheng Coke & Activated Carbon Co., Ltd.
Ningxia Yinchuan Lanqiya Activated Carbon Co., Ltd.
Ningxia Yirong Alloy Iron Co., Ltd.
Ningxia Zhengyuan Activated.
Nippon Express (Shanghai) Co., Ltd.
Nuclear Ningxia Activated Carbon Co., Ltd.
OEC Logistic Qingdao Co., Ltd.
OEC Logistics Co., Ltd. (Tianjin).
Pacific Star Express (China) Company Ltd.
Panalpina World Transport (Prc) Ltd
Panshan Import and Export Corporation.
Pingdingshan Green Forest Activated.
Pingluo Xuanzhong Activated Carbon Co., Ltd.
Pingluo Yu Yang Activated Carbon Co., Ltd.
Pudong Prime International Logistics, Inc.
Schenker Intl (HK) Ltd.
Seatrade International Transportation.
Shanghai Activated Carbon Co., Ltd.
Shanghai Astronautical Science Technology Development Corporation.
Shanghai Caleb Industrial Co. Ltd.
Shanghai Coking and Chemical Corporation.
Shanghai Express Global International.
Shanghai Goldenbridge International.
Shanghai Jiayu International Trading (Dezhou Jiayu and Chengde Jiayu).
Shanghai Jinhu Activated Carbon (Xingan Shenxin and Jiangle Xinhua).
Shanghai Light Industry and Textile Import & Export Co., Ltd.
Shanghai Line Feng Int'l Transportation.
Shanghai Mebao Activated Carbon.
Shanghai Sunson Activated Carbon Technology Co. Ltd.
Shanghai Xingchang Activated Carbon.
Shanghai Xinjinhu Activated Carbon.
Shanxi Blue Sky Purification Material Co., Ltd.
Shanxi Carbon Industry Co., Ltd.
Shanxi Dapu International Trade Co., Ltd.
Shanxi DMD Corporation.
Shanxi Industry Technology Trading Co., Ltd.
Shanxi Newtime Co., Ltd.
Shanxi Qixian Foreign Trade Corporation.
Shanxi Qixian Hongkai Active Carbon Goods.
Shanxi Sincere Industrial Company.
Shanxi Sincere Industrial Co., Ltd.
Shanxi Supply and Marketing Cooperative.
Shanxi Tianli Ruihai Enterprise Co.
Shanxi Tianxi Purification Filter Co., Ltd.
Shanxi U Rely International Trade.
Shanxi Xiaoyi Huanyu Chemicals Co., Ltd.
Shanxi Xinhua Activated Carbon Co., Ltd.
Shanxi Xinhua Chemical Co., Ltd. (formerly Shanxi Xinhua Chemical Factory).
Shanxi Xinhua Protective Equipment.
Shanxi Xinshidai Import Export Co., Ltd.
Shanxi Xuanzhong Chemical Industry Co., Ltd.
Shanxi Zuoyun Yunpeng Coal Chemistry.
Shenzhen Calux Purification Technology Co., Ltd.
Shenzhen Sihaiweilong Technology Co.
Shijiazhuang Xinshuang Trade Co., Ltd.
Sincere Carbon Industrial Co. Ltd.
Sinoacarbon International Trading Co, Ltd.
T.H.I Group (Shanghai) Ltd.
Taining Jinhu Carbon.
Tancarb Activated Carbon Co., Ltd.
Tangshan Solid Carbon Co., Ltd.
The Ultimate Solid Logistics Ltd.
Tianchang (Tianjin) Activated Carbon.
Tianjin Century Promote International Trade Co., Ltd.
Tianjin Channel Filters Co., Ltd.
Tianjin Jacobi International Trading Co. Ltd.
Tianjin Maijin Industries Co., Ltd.
Taiyuan Hengxinda Trade Co., Ltd.
Tonghua Bright Future Activated Carbon Plant.
Tonghua Xinpeng Activated Carbon Factory.
Top One International Trading Co., Ltd.
Translink Shipping Inc.
Trans-Power International Logistics Co., Ltd.
Triple Eagle Container Line.
Uniclear New-Material Co., Ltd.
United Manufacturing International (Beijing) Ltd.
U.S. United Logistics (Ningbo) Inc.
Valqua Seal Products (Shanghai) Co.
Vanguard Logistics Services.
VitaPac (HK) Industrial Ltd.
Wellink Chemical Industry.
Xi Li Activated Carbon Co., Ltd.
Xi'an Shuntong International Trade & Industrials Co., Ltd.
Xiamen All Carbon Corporation.
Xingan County Shenxin Activated Carbon Factory.
Xinhua Chemical Company Ltd.
Xuanzhong Chemical Industry.
Yangyuan Hengchang Active Carbon.
Yicheng Logistics.
Yinchuan Lanqiya Activated Carbon Co., Ltd.
Yusen Logistics (China) Co., Ltd. Tianjin.
Zhejiang Quizhou Zhongsen Carbon.
Zhejiang Topc Chemical Industry.
Zhejiang Xingda Activated Carbon Co., Ltd.
Zhejiang Yun He Tang Co., Ltd.
Zhuxi Activated Carbon.
Zuoyun Bright Future Activated Carbon Plant.
THE PEOPLE'S REPUBLIC OF CHINA: Drawn Stainless Steel Sinks A-570-983 | 4/1/17-3/31/18
B&R Industries Limited.
Elkay (China) Kitchen Solutions, Co., Ltd.
Feidong Import and Export Co., Ltd.
Foshan Shunde MingHao Kitchen Utensils Co., Ltd.
Foshan Zhaoshun Trade Co., Ltd.
Franke Asia Sourcing Ltd.
Grand Hill Work Company.
Guangdong Dongyuan Kitchenware Industrial Co., Ltd.
Guangdong G-Top Import & Export Co., Ltd.
Guangdong New Shichu Import & Export Company Limited.
Guangdong Yingao Kitchen Utensils Co., Ltd.
Hangzhou Heng's Industries Co., Ltd.
Hubei Foshan Success Imp & Exp Co. Ltd.
J&C Industries Enterprise Limited.
Jiangmen Hongmao Trading Co., Ltd.
Jiangmen New Star Hi-Tech Enterprise Ltd.
Jiangmen Pioneer Import & Export Co., Ltd.
Jiangxi Zoje Kitchen & Bath Industry Co., Ltd.
KaiPing Dawn Plumbing Products, Inc.
Ningbo Afa Kitchen and Bath Co., Ltd.
Ningbo Oulin Kitchen Utensils Co., Ltd.
Primy Cooperation Limited.
Shenzhen Kehuaxing Industrial Ltd.
Shunde Foodstuffs Import & Export Company Limited of Guangdong.
Shunde Native Produce Import and Export Co., Ltd. of Guangdong.
Xinhe Stainless Steel Products Co., Ltd.
Yuyao Afa Kitchenware Co., Ltd.
Zhongshan Newecan Enterprise Development Corporation.
Zhongshan Silk Imp. & Exp. Group Co., Ltd. of Guangdong.
Zhongshan Superte Kitchenware Co., Ltd.
Zhuhai Kohler Kitchen & Bathroom Products Co., Ltd.
THE PEOPLE'S REPUBLIC OF CHINA: Magnesium Metal A-570-896 | 4/1/17-3/31/18
Tianjin Magnesium International Co., Ltd.
Tianjin Magnesium Metal Co., Ltd.
THE PEOPLE'S REPUBLIC OF CHINA: Stainless Steel Sheet and Strip A-570-042 | 9/19/16-3/31/18
Ahonest Changjiang Stainless Co., Ltd.
Angang Guangzhou Stainless Steel Corporation (LISCO).
Angang Hanyang Stainless Steel Corp. (LISCO).
Anping Yuanjing Metal Products Co., Ltd.
Apex Industries Corporation.
Baofeng Xianglong Stainless Steel (aka Baofeng Steel Group Co.).
Baojing Steel Ltd.
Baosteel Desheng Stainless Steel Co., Ltd.
Baosteel Huayong Stainless Steel Co., Ltd.
Baosteel Stainless Steel Co., Ltd.
Beihai Chengde Ferronickel Stainless Steel.
Beijing Dayang Metal Industry Co.
Beijing Hengsheng Tongda Stainless Steel.
Beijing Jingnanfang Decoration Engineering Co., Ltd.
Benxi Iron and Steel.
C.Y. Housewares (Dongguan) Co., Ltd.
Chain Chon Metal (Foshan).
Chain Chon Metal (Kunshan).
Changhai Stainless Steel.
Changzhou General Import and Export.
Changzhou Taiye Sensing Technology Co., Ltd.
Compart Precision Co.
Dalian Yirui Import and Export Agent Co., Ltd.
Daming International Import and Export Co., Ltd.
Dongbei Special Steel Group Co., Ltd.
Double Stone Steel.
Etco (China) International Trading Co., Ltd.
FHY Corporation.
Foshan Foreign Economic Enterprise.
Foshan Hermes Steel Co., Ltd.
Foshan Jinfeifan Stainless Steel Co.
Foshan Topson Stainless Steel Co.
Fugang Group.
Fujian Fuxin Special Steel Co., Ltd.
Fujian Kaixi Stainless Steel.
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co. Ltd.
Guangxi Beihai Chengde Group.
Guangxi Wuzhou Jinhai Stainless Steel Co.
Guangzhou Eversunny Trading Co., Ltd.
Haimen Senda Decoration Material Co.
Hanyang Stainless Steel Co. (LISCO).
Hebei Iron & Steel.
Henan Tianhong Metal.
Henan Xinjinhui Stainless Steel Co., Ltd.
Henan Xuyuan Stainless Steel Co. Ltd.
Huadi Steel Group Co., Ltd.
Ideal Products of Dongguan Ltd.
Irestal Shanghai Stainless Pipe (ISSP).
Jaway Metal Co., Ltd.
Jiangdu Ao Jian Sports Apparatus Factory.
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xinyongmao.
Jiuquan Iron & Steel (JISCO).
Kuehne & Nagel, Ltd. (Ningbo).
Lianzhoung Stainless Steel Corp. (LISCO).
Lu Qin (Hong Kong) Co. Ltd.
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd.
Ningbo Economic and Technological Development Zone (Beilun Xiapu).
Ningbo Hog Slat Trading Co., Ltd.
Ningbo New Hailong Import & Export Co.
Ningbo Polaris Metal Products Co.
Ningbo Portec Sealing Component.
Ningbo Qiyi Precision Metals Co., Ltd.
Ningbo Seduno Import & Export Co., Ltd.
Ningbo Sunico International Ltd.
Ningbo Swoop Import & Export.
Ningbo Yaoyi International Trading Co., Ltd.
Onetouch Business Service, Ltd.
Qianyuan Stainless Steel.
Qingdao Rising Sun International Trading Co., Ltd.
Qingdao Sincerely Steel.
Qingdao-Pohang Stainless Steel (QPSS).
Rihong Stainless Co., Ltd.
Ruitian Steel.
Samsung Precision Stainless Steel (Pinghu) Co., Ltd.
Sejung Sea & Air Co., Ltd.
Shandong Huaye Stainless Steel Group Co., Ltd.
Shandong Mengyin Huarun Imp and Exp Co., Ltd.
Shandong Mingwei Stainless Steel Products Co., Ltd.
Shanghai Dongjing Import & Export Co.
Shanghai Fengye Industry Co., Ltd.
Shanghai Ganglian E-Commerce Holdings Co. Ltd.
Shanghai Krupp Stainless (SKS).
Shanghai Metal Corporation.
Shanghai Tankii Alloy Material Co., Ltd.
Shanxi Taigang Stainless Steel Co., Ltd. (TISCO).
Shaoxing Andrew Metal Manufactured Co., Ltd.
Shaoxing Yuzhihang Import & Export Trade Co., Ltd.
Shenzhen Brilliant Sign Co., Ltd.
Shenzhen Wide International Trade Co., Ltd.
Sichuan Southwest Stainless Steel.
Sichuan Tianhong Stainless Steel.
Sino Base Metal Co., Ltd.
Suzhou Xinchen Precision Industrial Materials Co., Ltd.
Taishan Steel.
Taiyuan Accu Point Technology, Co. Ltd.
Taiyuan Iron & Steel (TISCO).
Taiyuan Ridetaixing Precision Stainless Steel Incorporated Co., Ltd.
Taizhou Durable Hardware Co., Ltd.
Tiancheng Stainless Steel Products.
Tianjin Fulida Supply Co., Ltd.
Tianjin Hongji Stainless Steel Products Co., Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel.
TISCO Stainless Steel (HK), Ltd.
Top Honest Stainless Steel Co., Ltd.
TPCO Yuantong Stainless Steel Ware.
Tsingshan Qingyuan.
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining.
Yieh Corp. Ltd.
Yongjin Metal Technology.
Yuyao Purenovo Stainless Steel Co., Ltd.
Zhangjiagang Pohang Stainless Steel Co., Ltd (ZPSS).
Zhejiang Baohong Stainless Steel Co., Ltd.
Zhejiang Huashun Metals Co., Ltd.
Zhejiang Jaguar Import & Export Co., Ltd.
Zhejiang New Vision Import & Export.
Zhejiang Yongjin Metal Technology Co., Ltd.
Zhengzhu Mingtai Industry Co., Ltd.
Zhenjiang Huaxin Import & Export.
Zhenjiang Yongyin Metal Tech Co.
Zhenshi Group Eastern Special Steel Co., Ltd.
Zun Hua City Transcend Ti-Gold.
Countervailing Duty Proceedings
THE PEOPLE'S REPUBLIC OF CHINA: Stainless Steel Sheet and Strip C-570-043 | 7/18/16-12/31/17
C.Y. Housewares (Dongguan) Co., Ltd
Suspension Agreements
None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁴ Parties are hereby reminded that revised certification requirements are in effect for company/government officials as well as their representatives. All segments of any antidumping duty or countervailing duty proceedings initiated on or after August 16, 2013, should use the formats for the revised certifications provided at the end of the Final Rule.⁵ Commerce intends to reject factual submissions in any proceeding segments if the submitting party does not comply with applicable revised certification requirements.

⁴ See section 782(b) of the Act.

⁵ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: May 31, 2018.
James Maeder,
Associate Deputy Assistant Secretary for Antidumping and Countervailing Duty Operations performing the duties of Deputy Assistant Secretary for Antidumping and Countervailing Duty Operations.

[FR Doc. 2018-12142 Filed 6-5-18; 8:45 am]

BILLING CODE 3510-DS-P